DEPARTMENT OF THE INTERIOR

National Park Service

National Register of Historic Places; Notification of Pending Nominations

Nominations for the following properties being considered for listing in the National Register were received by the National Park Service before October 18, 2003.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by November 20, 2003.

Carol D. Shull,
Keeper of the National Register of Historic Places.

Arizona

Mohave County

Peach Springs Trading Post, 863 W AZ 66, Peach Springs, 03001196

Schoolhouse at Truxton Canyon Training School, AZ 66, Valentine, 03001197

Illinois

Champaign County

Virginia Theater, 203 W. Park Ave., Champaign, 03001201

Cook County

Des Plaines Theater, 1476 Miner St., Des Plaines, 03001198

Crawford County

Harper, John B., House, 102 N. Lincoln, Palestine, 03001199

De Witt County

Magill House, 100 N. Center St., Clinton, 03001202

Henry County

Atkinson Hall, 108 W. Main St., Genesco, 03001203

Kane County

Riverbank Laboratories, 1512 Batavia Ave., Geneva, 03001204

Kendall County

Steward, Lewis, House, 611 E. Main St., Plano, 03001200

Maryland

Baltimore Independent city

Home of the Friendless, 1313 Druid Hill Ave., Baltimore (Independent City), 03001205

Massachusetts

Bristol County

Shawmut Diner, (Diners of Massachusetts MPS) 943 Shawmut Ave., New Bedford, 03001208

Towne Street Historic District, Towne St., E of Jackson St., North Attleborough, 03001210

Middlesex County

Buck's Corner Historic District, (First Period Buildings of Eastern Massachusetts TR) 216 Wildwood St., 580,584,588,590,602,603,604 Woburn St., Wilmington, 03001209

Monarch Diner, (Diners of Massachusetts MPS) 246 Appleton St., Lowell, 03001207

Worcester County

Chadwick Square Diner, (Diners of Massachusetts MPS) 95 rear Prescott St., Worcester, 03001206

Nebraska

Cedar County

Hartington Hotel, 202 North Broadway, Hartington, 03001219

Saints Philip and James Parochial School, 89039 570 Ave., Wynot, 03001211

Saline County

Sokol, Telocvicna Jednota “T.J.”, Hall, 12th St. and Norman Ave., Crete, 03001214

Sheridan County

Fritz, Lee and Gottliebe, House, 132 North Oak, Gordon, 03001213

Wisconsin

Brown County

Union House Hotel, 200 North Broadway, De Pere, 03001216

Dane County

Dahle, Henry L. and Sarah, House, 312 S. Fourth St., Mount Horeb, 03001218

Dahle, Herman B. and Anne Marie, House, 200 N. Second St., Mount Horeb, 03001217

Green County

Steinman, John C. and Barbara, House, 330 S. Monroe St., Monticello, 03001215

Jefferson County

Saint Bernard's Church Complex, 100,108 S. Church St., 111 S. Montgomery St., Watertown, 03001221

South Washington Street Historic District, Odd numbered 201-309 S. Church St. and S. Washington St. from Emmet St. to West St., Watertown, 03001220

[FR Doc. 03-27720 Filed 11-4-03; 8:45 am]

BILLING CODE 4312-51-P